DEPARTMENT OF LABOR

Employment and Training Administration

[TA-W-63,702]

Intermec Service Center, a Subsidiary of Intermec Technologies Corporation, Cedar Rapids, IA; Notice of Negative Determination Regarding Application for Reconsideration

By application dated September 5, 2008, a petitioner requested administrative reconsideration of the Department's negative determination regarding eligibility to apply for Trade Adjustment Assistance (TAA), applicable to workers and former workers of the subject firm. The denial notice was signed on August 6, 2008 and published in the Federal Register on August 21, 2008 (73 FR 49492).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative TAA determination issued by the Department for workers of Intermec Service Center, a subsidiary of Intermec Technologies Corporation, Cedar Rapids, Iowa was based on the finding that the worker group does not produce an article within the meaning of Section 222 of the Trade Act of 1974.

The petitioner states that the workers of the subject firm are “repair technicians, shipping/receiving clerks, stockroom clerks, warehouse clerks, administrative persons, and service center management.” The petitioner further states that workers of the subject firm were engaged in distribution of “new Articles sold to customers.”

The investigation revealed that workers of Intermec Service Center, a subsidiary of Intermec Technologies Corporation, Cedar Rapids, Iowa perform maintenance and repair on damaged or defective handheld computers, printers, and other items. Based on petitioner's allegations, the workers of the subject firm might also perform warehousing and distribution services. These functions, as described above, are not considered production of an article within the meaning of Section 222 of the Trade Act.

Conclusion

After review of the application and investigative findings, I conclude that there has been no error or misinterpretation of the law or of the facts which would justify reconsideration of the Department of Labor's prior decision. Accordingly, the application is denied.

Signed in Washington, DC, this 16th day of October 2008.
Elliott S. Kushner,
Certifying Officer, Division of Trade Adjustment Assistance.

[FR Doc. E8-25461 Filed 10-24-08; 8:45 am]

BILLING CODE 4510-FN-P